DEPARTMENT OF TRANSPORTATION

Federal Aviation Administration

Aviation Rulemaking Advisory Committee; Notice of Public Meetings

AGENCY: Federal Aviation Administration (FAA), Department of Transportation (DOT).

ACTION: Notice of public meetings.

SUMMARY: The FAA announces multiple meetings of the Aviation Rulemaking Advisory Committee (ARAC). This notice announces the date, time, and location of these meetings. The meetings will be “open to the public” meeting notice requirements. The purpose of ARAC is to provide information, advice, and recommendations to the Secretary of Transportation, through the FAA Administrator, concerning rulemaking activities, such as aircraft operations, airman and air agency certification, airworthiness standards and certification, airports, maintenance, noise, and training.

DATES: The ARAC will host two public meetings, the first will take place June 13, 2024, from 2:00 p.m. to 4:00 p.m. Eastern Time. The second public meeting will be held on September 12, 2024, from 1:00 p.m. to 4:00 p.m. Eastern Time. The FAA must receive requests to attend the meeting at least two weeks in advance of the meeting.

ADDRESSES: Each meeting will be held at the Federal Aviation Administration, 800 Independence Avenue SW, Washington, DC 20591, and virtually on Zoom. However, if the FAA is unable to hold the meeting in person due to circumstances outside of its control, the FAA will hold a virtual meeting, notifying registrants of the meeting details and posting any updates on the FAA Committee website. Members of the public who wish to observe the meeting must RSVP by emailing 9-awa-arac@faa.gov. General committee information, including copies of the meeting minutes, will be available on the FAA Committee website (https://www.faa.gov/regulations_policies/rulemaking/committees/documents/) at least one week in advance of the meeting.

FOR FURTHER INFORMATION CONTACT: Aliah Duckett, Federal Aviation Administration, Office of Rulemaking, 800 Independence Avenue SW, Washington, DC 20591, 9-awa-arac@faa.gov or (202) 267-6952. Any committee-related request should be sent to the person listed in this section.

SUPPLEMENTARY INFORMATION:

I. Background

ARAC was established on January 22, 1991, under the Federal Advisory Committee Act (FACA) and pursuant to Title 5 of the United States Code (5 U.S.C. 1001 et seq.), as a discretionary committee. The purpose of ARAC is to provide information, advice, and recommendations to the Secretary of Transportation, through the FAA Administrator, concerning rulemaking activities, such as aircraft operations, airman and air agency certification, airworthiness standards and certification, airports, maintenance, noise, and training.

II. Agenda

The agendas for the June 13 and September 12, 2024, meetings will include the following:

Welcome and Introductions

Federal Advisory Committee Act (FACA) Statement

Ratification of Minutes

Status Updates and Recommendation Reports

A. ARAC

○ Airman Certification System Working Group

○ Training Standardization Working Group

○ Part 65.101 Repairman Certificate Portability Working Group

B. Transport Airplane and Engine (TAE) Subcommittee

○ Flight Test Harmonization Working Group

○ Ice Crystal Icing Working Group

○ Engine and Powerplant Interface Working Group

Any Other Business

FAA Update on Regulatory Activities

Adjourn

Detailed agenda information will be posted on the FAA Committee website address listed in the ADDRESSES section at least one week in advance of the meeting.

III. Public Participation

The meeting will be open to the public for virtual or in-person attendance on a first-come, first-served basis, as there is limited space. Please confirm your attendance with the person listed in the FOR FURTHER INFORMATION CONTACT section and provide the following information: full legal name, country of citizenship, and name of your industry association or applicable affiliation. Please indicate if you plan to observe the meeting in person or virtually. The FAA will email registrants the meeting access information in a timely manner prior to the start of the meeting.

The DOT is committed to providing equal access to this meeting for all participants. If you need alternative formats or services because of a disability, such as sign language, interpretation, or other ancillary aids, please contact the person listed in the FOR FURTHER INFORMATION CONTACT section of this notice no later than one week prior to each meeting.

The FAA is not accepting oral presentations at the meetings due to time constraints. Members of the public may present written statements to ARAC by providing a copy to the Designated Federal Officer via the email listed in the FOR FURTHER INFORMATION CONTACT section of this notice no later than one week before each meeting. Advance submissions that become part of the committee deliberations will become part of the official record of the meeting.

Issued in Washington, DC, on May 24, 2024.
Brandon Roberts,
Executive Director, Office of Rulemaking.

[FR Doc. 2024-11877 Filed 5-29-24; 8:45 am]

BILLING CODE 4910-13-P